DEPARTMENT OF ENERGY

Federal Energy Regulatory Commission

[Docket No. EL18-31-000]

Notice of Complaint; Clear River Energy Center LLC v. ISO New England Inc., New England Power Company, New England Participating Transmission Owners

Take notice that on November 17, 2017, pursuant to section 206 of the Federal Power Act, 16 U.S.C. 824e, and Rule 206 of the Federal Energy Regulatory Commission's (Commission) Rules of Practice and Procedure, 18 CFR 385.206, Clear River Energy Center LLC, (Complainant) filed a formal complaint against ISO New England Inc. (ISO-NE), New England Power Company, New England Participating Transmission Owners (collectively, Respondents) alleging that ISO-NE's Transmission, Markets and Services Tariff is unjust and unreasonable, anticompetitive and unduly discriminatory, all as more fully explained in the complaint.

Complainants certifies that a copy of the complaint was served on respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 7, 2017.

Dated: November 20, 2017.
Kimberly D. Bose,
Secretary.

[FR Doc. 2017-25484 Filed 11-24-17; 8:45 am]

BILLING CODE 6717-01-P